DEPARTMENT OF ENERGY

Federal Energy Regulatory Commission

Combined Notice of Filings #1

Take notice that the Commission received the following exempt wholesale generator filings:

Docket Numbers: EG12-41-000.

Applicants: Magic Valley Wind Farm I, LLC.

Description: Notice of Self-Certification of Exempt Wholesale Generator Status of Magic Valley Wind Farm I, LLC.

Filed Date: 3/7/12.

Accession Number: 20120307-5137.

Comments Due: 5 p.m. ET 3/28/12.

Docket Numbers: EG12-42-000.

Applicants: Wildcat Wind Farm I, LLC.

Description: Notice of Self-Certification of Exempt Wholesale Generator Status of Wildcat Wind Farm I, LLC.

Filed Date: 3/7/12.

Accession Number: 20120307-5140.

Comments Due: 5 p.m. ET 3/28/12.

Docket Numbers: EG12-43-000.

Applicants: Sherbino I Wind Farm LLC.

Description: Notice of Self-Certification of EWG status of Sherbino I Wind Farm LLC.

Filed Date: 3/7/12.

Accession Number: 20120307-5180.

Comments Due: 5 p.m. ET 3/28/12.

Take notice that the Commission received the following electric rate filings:

Docket Numbers: ER10-1459-002.

Applicants: FirstEnergy Solutions Corp.

Description: Revised Affiliate Sales Tariff to be effective 6/1/2012.

Filed Date: 3/7/12.

Accession Number: 20120307-5111.

Comments Due: 5 p.m. ET 3/28/12.

Docket Numbers: ER10-1782-002.

Applicants: Tampa Electric Company.

Description: Annual Compliance Report Regarding Operational Penalties of Tampa Electric Company.

Filed Date: 3/7/12.

Accession Number: 20120307-5198.

Comments Due: 5 p.m. ET 3/28/12.

Docket Numbers: ER12-424-000.

Applicants: Midwest Independent Transmission System Operator, Inc., International Transmission Company.

Description: J122 Refund Report to be effective N/A.

Filed Date: 3/8/12.

Accession Number: 20120308-5045.

Comments Due: 5 p.m. ET 3/29/12.

Docket Numbers: ER12-425-000.

Applicants: Midwest Independent Transmission System Operator, Inc., Michigan Electric Transmission Company, LLC.

Description: J132 Refund Report to be effective N/A.

Filed Date: 3/8/12.

Accession Number: 20120308-5046.

Comments Due: 5 p.m. ET 3/29/12.

Docket Numbers: ER12-1219-001.

Applicants: PJM Interconnection, L.L.C.

Description: Original Service Agreement No. 3249; Queue No. W2-088 to be effective 2/14/2012.

Filed Date: 3/7/12.

Accession Number: 20120307-5160.

Comments Due: 5 p.m. ET 3/28/12.

Docket Numbers: ER12-1221-000.

Applicants: AEP Texas North Company.

Description: 20120307 TNC-Oncor IA to be effective 2/13/2012.

Filed Date: 3/7/12.

Accession Number: 20120307-5146.

Comments Due: 5 p.m. ET 3/28/12.

Docket Numbers: ER12-1222-000.

Applicants: Wisconsin Electric Power Company.

Description: FERC Rate Schedule 115 Amended Service Agreement Filing to be effective 3/8/2012.

Filed Date: 3/7/12.

Accession Number: 20120307-5181.

Comments Due: 5 p.m. ET 3/28/12.

Docket Numbers: ER12-1223-000.

Applicants: Wildcat Wind, LLC.

Description: Application for Market-Based Rate Authorization to be effective 5/1/2012.

Filed Date: 3/7/12.

Accession Number: 20120307-5182.

Comments Due: 5 p.m. ET 3/28/12.

Docket Numbers: ER12-1224-000.

Applicants: Atlantic Path 15, LLC.

Description: Offer of Settlement—Base Transmission Revenue Requirement to be effective 10/13/2011.

Filed Date: 3/7/12.

Accession Number: 20120307-5183.

Comments Due: 5 p.m. ET 3/28/12.

Docket Numbers: ER12-1225-000.

Applicants: Fowler Ridge Wind Farm LLC.

Description: Compliance Filing—Certificate of Concurrence to be effective N/A.

Filed Date: 3/7/12.

Accession Number: 20120307-5184.

Comments Due: 5 p.m. ET 3/28/12.

Docket Numbers: ER12-1226-000.

Applicants: California Independent System Operator Corporation.

Description: 2012 CAISO REM Compliance Filing to Modify Effective Date to be effective 4/10/2012.

Filed Date: 3/7/12.

Accession Number: 20120307-5185.

Comments Due: 5 p.m. ET 3/28/12.

Docket Numbers: ER12-1227-000.

Applicants: Citizens Energy Corporation.

Description: Notice of Cancellation of Citizens Energy Corporation.

Filed Date: 3/8/12.

Accession Number: 20120308-5023.

Comments Due: 5 p.m. ET 3/29/12.

Docket Numbers: ER12-1228-000.

Applicants: High Majestic Wind II, LLC.

Description: High Majestic Wind II, LLC MBR Application to be effective 5/7/2012.

Filed Date: 3/8/12.

Accession Number: 20120308-5048.

Comments Due: 5 p.m. ET 3/29/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 8, 2012.
Nathaniel J. Davis, Sr.,
Deputy Secretary.

[FR Doc. 2012-6394 Filed 3-15-12; 8:45 am]

BILLING CODE 6717-01-P